DEPARTMENT OF THE INTERIOR

Fish and Wildlife Service

[FWS-R6-ES-2011-N260; FXES11130600000D2-123-FF06E00000]

Endangered and Threatened Wildlife and Plants; Recovery Permit Applications

AGENCY: Fish and Wildlife Service, Interior.

ACTION: Notice of availability; request for comments.

SUMMARY: We, the U.S. Fish and Wildlife Service, invite the public to comment on the following applications to conduct certain activities with endangered or threatened species. The Endangered Species Act of 1973, as amended (Act), prohibits activities with endangered and threatened species unless a Federal permit allows such activity. The Act also requires that we invite public comment before issuing these permits.

DATES: To ensure consideration, please send your written comments by January 26, 2012.

ADDRESSES: Kris Olsen, Permit Coordinator by U.S. mail at Ecological Services, U.S. Fish and Wildlife Service, P.O. Box 25486-DFC, Denver, CO 80225, or by telephone at (303) 236-4256. Please refer to the respective permit number (e.g., Permit No. TE-123456) for each application when submitting comments.

FOR FURTHER INFORMATION CONTACT: Kris Olsen, Permit Coordinator, Ecological Services, (303) 236-4256 (phone); permitsR6ES@fws.gov (email).

SUPPLEMENTARY INFORMATION:

Background

The Act (16 U.S.C. 1531 et seq.) prohibits activities with endangered and threatened species unless a Federal permit allows such activity. Along with our implementing regulations in the Code of Federal Regulations (CFR) at 50 CFR part 17, the Act provides for permits, and requires that we invite public comment before issuing these permits.

A permit granted by us under section 10(a)(1)(A) of the Act authorizes you to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number (e.g., Permit No. TE-123456) for the application when submitting comments.

Documents and other information the applicants have submitted with these applications are available for review, subject to the requirements of the Privacy Act (5 U.S.C. 552a) and Freedom of Information Act (5 U.S.C. 552).

Permit Application Number: TE-054237

Applicant: U.S. Forest Service, Rocky Mountain Region, Lakewood, Colorado.

The applicant requests renewal of an existing permit to perform the following recovery activities with the following species, in conjunction with surveys and population monitoring activities throughout the range of each species in Colorado, for the purpose of enhancing the species' survival:

Take (harass by survey) the Preble's meadow jumping mouse (Zapus hudsonius preblei), the Mexican spotted owl (Strix occidentalis lucida), and the Southwestern willow flycatcher (Empidonax traillii extimus); and

Take (capture, handle, and release) the greenback cutthroat trout (Oncorhynchus clarki stomias).

Permit Application Number: TE-067729

Applicant: Kansas State University, Manhattan, Kansas.

The applicant requests renewal of an existing permit to perform the following recovery activities with the following species, in conjunction with surveys and population monitoring activities throughout the range of each species in Colorado and Kansas, for the purpose of enhancing the species' survival:

Take (capture, handle, and release) the Topeka shiner (Notropis topeka); and

Take (collect and kill) 100 each of hatchery-reared Colorado pikeminnow (Ptychocheilus lucius) and razorback sucker (Xyrauchen texanus) for prey behavior trials; and

Take (capture, PIT tag, fin clip, and release) 100 each of hatchery-reared Colorado pikeminnow (Ptychocheilus lucius) and razorback sucker (Xyrauchen texanus) to determine the use and importance of tributaries to sustaining native fish communities in the San Juan River and identify potential barriers to fish passage.

Permit Application Number: TE-069300

Applicant: Nebraska Game and Parks Commission, Lincoln, Nebraska.

The applicant requests renewal of an existing permit to take (capture, collect, tag, hold, and transport) the pallid sturgeon (Scaphirhynchus albus) in conjunction with surveys and population monitoring activities throughout its range in Iowa, Kansas, Nebraska, and South Dakota, for the purpose of enhancing the species' survival.

Permit Application Number: TE-064682

Applicant: Prairie Wildlife Research, Inc., Wellington, Colorado.

The applicant requests renewal of an existing permit to take (harass by survey, live trap, anesthetize, tag, collect genetic materials) the black-footed ferret (Mustela nigripes) in conjunction with surveys and population monitoring activities throughout its entire range, including Canada and Mexico, for the purpose of enhancing the species' survival.

National Environmental Policy Act

In compliance with the National Environmental Policy Act (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: December 13, 2011.
Michael Thabault,
Assistant Regional Director-Ecological Services, Denver, CO.

[FR Doc. 2011-33081 Filed 12-23-11; 8:45 am]

BILLING CODE 4310-55-P